DEPARTMENT OF AGRICULTURE

Farm Service Agency

Information Collection Request, Servicing Minor Program Loans

AGENCY: Farm Service Agency, USDA.

ACTION: Notice and request for comments.

SUMMARY: In accordance with the Paperwork Reduction Act of 1995, FSA is requesting comments from all interested individuals and organizations on a currently approved information collection to support the FSA Farm Loan Programs (FLP).

DATES: We will consider comments that we receive by September 11, 2009.

ADDRESSES: We invite you to submit comments on this notice. In your comments, include date, volume, and page number of this issue of Federal Register. You may submit comments by any of the following methods:

• Mail: Mel Thompson, USDA, Farm Service Agency, Loan Servicing and Property Management Division, 1250 Maryland Avenue, SW., Suite 500, Washington, DC 20024;

• E-mail: mel.thompson@wdc.usda.gov;

• Fax: 720-5804.

• Hand Delivery or Courier: Deliver comments to Farm Service Agency, Loan Servicing and Property Management Division, 1280 Maryland Avenue, SW., Suite 500, Washington, DC 20024.

You may also send comments to the Desk Officer for Agriculture, Office of Information and Regulatory Affairs, Office of Management and Budget, Washington, DC 20503.

FOR FURTHER INFORMATION CONTACT: Mel Thompson, Senior Loan Officer, (202) 720-7862.

SUPPLEMENTARY INFORMATION: Title: Servicing Minor Program Loans.

OMB Control Number: 0560-0230.

Expiration Date: January 31, 2010.

Type of Request: Extension.

Abstract: Section 331 of the Consolidated Farm and Rural Development Act, 7 U.S.C. 1981, (“CONACT”) in part, authorizes the Secretary of Agriculture to modify, subordinate and release terms of security instruments, leases, contracts, and agreements entered into by FSA. That section also authorizes transfers of security property, as the Secretary deems necessary, to carry out the purpose of the loan or protect the Government's financial interest. Section 335 of the CONACT (7 U.S.C. 1985), provides servicing authority for real estate security; operation or lease of realty; disposition of property; conveyance of real property interest of the United States; easements; and condemnations. The information collection relates to a program benefit recipient or loan borrower requesting action on security they own, which was purchased with FSA loan funds, improved with FSA loan funds or has otherwise been mortgaged to FSA to secure a Government loan. The information collected is primarily financial data not already on file, such as borrower asset values, current financial information and public use and employment data.

Estimate of Annual Burden: Public reporting burden for this collection of information is estimated to average .52 hours per response.

Respondents: Individuals, associations, partnerships, or corporations.

Estimated Number of Respondents: 226.

Estimated Number of Responses per Respondent: 1.

Estimated Total Annual Burden on Respondents: 117.5 hours.

We are requesting comments on all aspects of this information collection including the follow to help us to:

(1) Evaluate whether the collection of information is necessary for the proper performance of the functions of the agency, including whether the information will have practical utility;

(2) Evaluate the accuracy of the agency's estimate of burden including the validity of the methodology and assumptions used;

(3) Enhance the quality, utility and clarity of the information to be collected;

(4) Minimize the burden of the collection of information on those who are to respond, including through the use of appropriate automated, electronic, mechanical, or other technological collection techniques or other forms of information technology.

All responses to this Notice will be summarized and included in the information collection request for Office of Management and Budget approval. All comments will also become a matter of public record.

Signed in Washington, DC, on July 6, 2009.
Douglas J. Caruso,
Administrator, Farm Service Agency.

[FR Doc. E9-16403 Filed 7-10-09; 8:45 am]

BILLING CODE 3410-05-P